AGENCY FOR INTERNATIONAL DEVELOPMENT

Notice of Cancellation of May 17 President's Global Development Council Meeting

AGENCY: United States Agency for International Development.

ACTION: Notice of cancellation of meeting.

SUMMARY: Pursuant to the Federal Advisory Committee Act, notice is hereby given of cancellation of the meeting of the President's Global Development Council (GDC) on Friday, May 17, 2013 in the Eisenhower Executive Office Building, South Court Auditorium, Pennsylvania Avenue and 17th Street NW., which was published in the Federal Register on May 9, 2013, 78 FR 27178.

This notice is being cancelled due to exceptional circumstances of coordinating high-level schedules. A new meeting date and time will be forthcoming.

FOR FURTHER INFORMATION CONTACT: Jayne Thomisee, 202-712-5506.

Dated: May 17, 2013.
Jayne Thomisee,
Executive Director & Policy Advisor, U.S. Agency for International Development.

[FR Doc. 2013-12206 Filed 5-21-13; 8:45 am]

BILLING CODE 6116-02-P